DEPARTMENT OF HEALTH AND HUMAN SERVICES

Announcement of Availability of Funds for Family Planning General Training and Technical Assistance Projects

AGENCY: Office of the Secretary, Office of Public Health and Science, Office of Population Affairs, Department of Health and Human Services.

ACTION: Notice.

Authority: Section 1003 of the Public Health Service (PHS) Act.

SUMMARY: The Office of Population Affairs (OPA) announces the availability of funds for Fiscal Year (FY) 2002 Family Planning General Training and Technical Assistance grants. Funds are available to provide both training and specialized technical assistance to family planning personnel in order to maintain the high level of performance of family planning services projects funded under Title X of the PHS Act. The OPA solicits applications for competing grant awards to support one general training center in each of the ten Department of Health and Human Services' (DHHS) regions.

DATES: Applications must be received in the Office of Grants Management, or clearly postmarked, no later than June 10, 2002. A legibly dated receipt from a commercial carrier or U.S. Postal Service will be accepted in lieu of a postmark. Private metered postmarks will not be accepted as proof of timely mailing. Applications which do not meet the deadline will not be accepted for review, and will be returned.

ADDRESSES: Applications kits may be requested from, and applications submitted to: Office of Grants Management for Family Planning Services, 1301 Young Street, Suite 766, Dallas, TX 75202.

Application kits are also available online at the Office of Population Affairs web site at http://opa.osophs.dhhs.gov or may be requested by fax at (214) 767-3425.

FOR FURTHER INFORMATION CONTACT:

Administrative and Budgetary Requirements

Regions I-X: Maudeen Pickett, Office of Grants Management for Family Planning Services, 214-767-3401.

Program Requirements

Regional Program Consultants for Family Planning: Region I (Connecticut, Maine, Massachusetts, New Hampshire, Rhode Island, Vermont)—Suzanne Theroux, 617-565-1063; Region II (New Jersey, New York, Puerto Rico, Virgin Islands)—Robin Lane, 212-264-3935; Region III (Delaware, Washington, D.C., Maryland, Pennsylvania, Virginia, West Virginia)—Louis Belmonte, 215-861-4641; Region IV (Kentucky, Mississippi, North Carolina, Tennessee, Alabama, Florida, Georgia, South Carolina)—Cristino Rodriguez, 404-562-7900; Region V (Illinois, Indiana, Michigan, Minnesota, Ohio, Wisconsin)—Janice Ely, 312-886-3864; Region VI (Arkansas, Louisiana, New Mexico, Oklahoma, Texas)—Evelyn Glass, 214-767-3088; Region VII (Iowa, Kansas, Missouri, Nebraska)—Elizabeth Curtis, 816-426-2924; Region VIII (Colorado, Montana, North Dakota, South Dakota, Utah, Wyoming)—Jill Leslie, 303-844-7856; Region IX (Arizona, California, Hawaii, Nevada, Commonwealth of the Northern Mariana Islands, American Samoa, Guam, Republic of Palau, Federated States of Micronesia, Republic of the Marshall Islands)—Nadine Simons, 415-437-7984; Region X (Alaska, Idaho, Oregon, Washington)—Janet Wildeboor, 206-615-2776.

SUPPLEMENTARY INFORMATION:

Definitions

For the purposes of this announcement, the following definitions apply:

Application/Proposal (used interchangeably)—a request for financial support of a project submitted to OPA on specified forms and in accordance with instructions provided.

Grant—financial assistance in the form of money, awarded by the Federal Government to an eligible recipient (a grantee or recipient is the entity that receives a Federal grant and assumes the legal and financial responsibility and accountability for the awarded funds and performance of activities approved for funding).

Project—those activities described in the grant application and supported under the approved budget.

Family Planning Training—“job-specific skill development, the purpose of which is to promote and improve the delivery of family planning services” [42 CFR 59.202(e)]. This training should include abstinence education for pre-adolescents, adolescents and young adults.

Family Planning Technical Assistance—specific, highly skilled family planning training provided to a single organization based on an identified need that enables the organization to promote and improve the delivery of family planning services, to include abstinence education.

Evidence-based—relevant scientific evidence that has undergone comprehensive review and rigorous analysis.

Eligible Applicants—any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a Title X family planning training and technical assistance grant. Faith-based organizations are eligible to apply for these Title X family planning training and technical assistance grants.

Background

This notice announces the availability of approximately $3,500,000 in funding, and solicits applications for general training and technical assistance projects to assist in the establishment and operation of one regional training center in each of the ten PHS regions. Grants will be funded within certain ranges as set out in Table I below. Funding of individual grants within each funding range will be based on the Regional Health Administrator's assessment of such factors as the training and technical assistance needs within the region and the cost and availability of personnel for the project.

Competing grant applications are invited for training and technical assistance projects as follows:

Table I
Region | States | Total funding range
I | CN, ME, MA, NH, RI, VT | $237,000-287,000
II | NJ, NY, PR, VI | 378,000-428,000
III | DE, DC, MD, PA, VA, WV | 392,000-442,000
IV | KY, MS, NC, TN, AL, FL, GA, SC | 459,000-509,000
V | IL, IN, MI, MN, OH, WI | 397,000-447,000
VI | AR, LA, NM, OK, TX | 371,000-421,000
VII | IA, KS, MO, NE | 237,000-287,000
VIII | CO, MT, ND, SD, UT, WY | 231,000-281,000
IX | AZ, CA, HI, NV and the 6 US Associated Pacific Jurisdictions | 331,000-381,000
X | AK, ID, OR, WA | 231,000-281,000

Statutory and Regulatory Authority

Title X of the PHS Act, 42 U.S.C. 300 et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” The broad range of services should include abstinence education. Section 1003 of the Act, as amended, authorizes the Secretary of Health and Human Services to award grants to entities to provide the training for personnel to carry out family planning service programs. (Catalog of Federal Domestic Assistance Number 93.260). Section 1008 of the Act, as amended, stipulates that “none of the funds appropriated under this title shall be used in programs where abortion is a method of family planning.”

The regulations set out at 42 CFR part 59, subpart C, govern grants to provide training for family planning service providers. Prospective applicants should refer to the regulations in their entirety. Training provided must be in accordance with the requirements regarding the provision of family planning services under Title X. These requirements can be found in the Title X statute, the implementing regulations which govern project grants for family planning services (42 CFR part 59, subpart A), and the “Program Guidelines for Project Grants for Family Planning Services,” issued in January 2001. Copies of the Title X statute, regulations, and Program Guidelines may be obtained by contacting the Office of Grants Management for Family Planning Services (at the address above), or downloaded from the OPA web site at http://opa.osophs.dhhs.gov.

Role and Operation of the Training and Technical Assistance Program

The purpose of the family planning general training program is to ensure that personnel working in Title X family planning services projects have the skills, knowledge and abilities necessary for the effective delivery of family planning services. Training supported under these grants is intended to provide specialized information that is evidence-based. The purpose of the training is to ensure that family planning program services and management are of high quality.

Successful applicants will be responsible for the development and overall management of the general training program within the PHS Region for which the grant is awarded. The PHS Project Officer in the respective Region will have final approval for all training plans and plans for the use of resources. Each grantee will be required to work closely with federal, state and/or local government entities, family planning providers, other community-based organizations and other training providers (e.g., HRSA AIDS Education Training Centers, CDC Prevention Training Centers, Administration for Children and Families (ACF) Infant Adoption Awareness Training Program, etc.) to maximize resources and achieve program objectives.

Proposals should be developed with a focus on the Title X program priorities and key issues identified below. Additionally, specific training priority topics will be identified for each year of the project period. Applicants should demonstrate flexibility in resource utilization, including training plan design, in order to respond to training priority topics, new initiatives, and program need during each year of the project period.

Title X Program Priorities

The following priorities represent overarching goals for the Title X program:

(1) Assurance of continued high quality clinical family planning and reproductive health services that will improve the overall health of individuals;

(2) Increasing access to family planning and reproductive health services by partnering with public health providers and other community-based organizations that have related interests and that work with similar populations;

(3) Emphasis on clinical services for hard-to-reach populations, e.g., uninsured or under-insured women, males in need of clinical services, adolescents, substance abusers, migrant workers, and the homeless; and

(4) Assuring access to a broad range of family planning and reproductive health clinical services, including provision of highly effective contraceptive methods; breast and cervical cancer screening and prevention; STD and HIV prevention education, counseling, and testing; and abstinence education and counseling. The broad range of services does not include abortion as a method of family planning.

Key Issues

The following key issues impact the current and future delivery of family planning services, and will require significant, specialized training efforts:

(1) The U.S. Department of Health and Human Services' priorities and Healthy People 2010 objectives (http://www.health.gov/healthypeople);

(2) Medicaid waivers, managed care, State Children's Health Insurance Program (SCHIP), Temporary Assistance to Needy Families (TANF), Title XX of the Social Services Block Grant, state support, and private insurance coverage related to family planning and reproductive health services, teen pregnancy and abstinence education (e.g., Title XX of the PHS Act Adolescent Family Life (AFL) Program, Title V of the Social Security Act—SPRANS and State Block Grants for Abstinence Education), and ACF Infant Adoption Awareness Training Program;

(3) Increased need for current and reliable data to use in program planning and monitoring program performance;

(4) Use of electronic technologies in program activities and management;

(5) Use of evidence-based information to support program activities; and

(6) Legislative mandates such as counseling teens on involving families and avoiding coercive sexual relationships, and program compliance with state reporting laws regarding child abuse, child molestation, sexual abuse, rape or incest.

Applicants should demonstrate a broad range of expertise and skill in providing training programs, managing training resources, and working with consultants and service providers. Applicants should demonstrate the capacity to utilize electronic technologies and evidence-based training delivery techniques. The proposed project plan should demonstrate knowledge of evidence-based learning theory and adult learning behavior, and application to proposed activities. Applicants should include evidence of their ability to design, implement, and evaluate training that prepares family planning project personnel to increase effectiveness in working with select population groups (racial, ethnic, linguistic) and with persons of differing educational and physical abilities.

The proposal should demonstrate the applicant's expertise and ability to develop, implement and evaluate training in the areas of information, education and communication; program management; and clinical service delivery. Within each of these areas, at a minimum, the grantee will be expected to provide training that includes the following topics:

Information, Education and Communication

• Increasing effectiveness in working with hard-to-reach and diverse populations to reduce health disparities;

• Use of electronic technologies in program activities and management;

• Use of print and mass media to achieve program goals and objectives.

Program Management

• Government requirements related to privacy and transmission of client information;

• Improving the management skills of family planning grantee staff;

• Increasing the ability of family planning grantee staff to assess, plan, design and utilize management information systems;

• Designing, implementing and utilizing data reports in project operations;

• Utilizing financial systems to monitor, track, record and control Title X and other financial resources according to Federal grants requirements;

• Improving program efficiency and enhancing cost savings and recovery mechanisms; and

• Utilizing the Office of Population Affairs electronic grants management system.

Clinical Activities

• Improving the performance of clinical staff (professional and other) involved in health care delivery through continuing education and quality assurance activities;

• Educational clinical activities addressing intimate partner violence;

• Clinical issues which impact reproductive health and family planning, (e.g., HIV/AIDS, sexually transmitted diseases [STDs], cervical and breast cancer, adolescent pregnancy, and abstinence counseling);

• Title X Program requirements, legislative mandates, and compliance with state reporting laws regarding child abuse, child molestation, sexual abuse, rape, or incest;

• Current family planning and reproductive health methods, drugs, devices, and technologies;

• Best practices for presenting non-directive counseling, including adoption counseling for pregnant clients.

In addition to providing general training on the issues mentioned above, successful applicants must also demonstrate the capacity to develop and implement a system for providing technical assistance to Title X service providers in the applicable PHS region. Technical assistance consists of specific, specialized or highly skilled family planning training that is usually provided to a single organization based on an identified need. The objective of this assistance is to provide projects with the technical resources needed to address Title X priorities and key issues impacting family planning. In facilitating the provision of technical assistance, the successful applicant will work closely with the Regional PHS Project Officer.

Successful proposals will provide evidence of the applicant's ability to identify and deploy qualified and competent consultants in specialized and highly technical fields related to family planning program and management issues. The proposal should include a plan for making all necessary arrangements with consultants in association with approved requests for technical assistance.

All technical assistance provided with this grant must have prior approval of the PHS Project Officer. A portion of the total grant award will be earmarked for technical assistance, and a final budget will be negotiated between the successful applicant and the PHS Regional Project Officer.

Evaluation

Applicants must include an evaluation plan of high quality which assesses all aspects of the training program. Project evaluation should be consistent with the scope of the training project, and should include evaluation of the content of the training program and effectiveness of training in meeting the stated objectives.

Application Requirements

Applications must include a one-page abstract of the proposed project. The abstract will be used to provide reviewers with an overview of the application, and will form the basis for the application summary in grants management documents. It is the practice of the Office of Population Affairs to maintain a summary of funded grants, and to post this information on the OPA web site. The abstract will be used as the basis for this posting and for other requests for summary information.

Applications must be submitted on the Form OPHS-1 (Revised 6/01) and in the manner prescribed in the application kits available from the Office of Grants Management for Family Planning Services at Dallas, TX and on the OPA web site. Applicants are required to submit an application signed by an individual authorized to act for the applicant agency or organization and to assume the obligations imposed by the terms and conditions of the grant award. Applicants are required to submit an original application and two copies.

Applicants should submit their applications in accordance with the deadline requirements set out in the DATES section of this announcement. Applications that do not conform to the requirements of the program announcement or meet the applicable requirements of 42 CFR part 59, subpart C, will not be accepted for review, and will be returned to the applicant.

Any public or private nonprofit organization or agency located in a state is eligible to apply for a Title X family planning training and technical assistance grant. Faith-based organizations are eligible to apply for these Title X family planning training and technical assistance grants. It is not required that an entity applying for a grant be physically located in the region to be served by the proposed project. Awards will be made only to those organizations or agencies which demonstrate the capability of providing the proposed services and which have met all applicable requirements.

A copy of the legislation and regulations governing this program will be sent to applicants as part of the application kit package. Applicants should use the legislation, regulations, and information included in this announcement to guide them in developing their applications. Applications should be limited to 50 double-spaced pages, not including appendices. Appendices may provide a roster of consultants, curriculum vitae, examples of organizational capabilities, or other supplemental information.

Application Consideration and Assessment

Eligible competing grant applications will be reviewed by a multi-disciplinary panel of independent reviewers and assessed according to the following criteria:

1. The degree to which the project plan adequately provides for the requirements set forth in 42 CFR 59.205 (25 points);

2. The extent to which the training program promises to fulfill the family planning services delivery needs of the area to be served, which may include, among other things:

(i) Development of a capability within family planning service projects to provide pre- and in-service training to their own staffs;

(ii) Improvement of the family planning services delivery skills of family planning and health services personnel;

(iii) Improvement in the utilization and career development of paraprofessional and paramedical manpower in family planning services;

(iv) Expansion of family planning services, particularly in rural areas, through new or improved approaches to program planning and deployment of resources;

(20 points total for this section)

3. The extent to which the proposed training and technical assistance program will increase the delivery of services to people, particularly low-income groups, with a high percentage of unmet need for family planning services (15 points);

4. The administrative and management capability and competence of the applicant (15 points);

5. The competence of the project staff in relation to the services to be provided (15 points); and

6. The capacity of the applicant to make rapid and effective use of the grant assistance, including evidence of flexibility in the utilization of resources and training plan design (10 points).

In making grant award decisions, the Regional Health Administrator in each Region will fund one project which will, in his or her judgment, best promote the purposes of sections 1001 and 1003 of the Act, within the limits of funds available for such projects.

Grants will be available for project periods of up to three years. Grants are funded in annual increments (budget periods). Funding for all approved budget periods beyond the first year of the grant is contingent upon satisfactory progress of the project, efficient and effective use of grant funds provided, and availability of funds.

Review Under Executive Order 12372

Applicants under this announcement are subject to the requirements of Executive Order 12372, “Intergovernmental Review of Department of Health and Human Services Programs and Activities,” as implemented by 45 CFR part 100. As soon as possible, the applicant should discuss the project with the State Single Point of Contact (SPOC) for each state in the area to be served. The application kit contains the currently available listing of the SPOCs which have elected to be informed of the submission of applications. For those states not represented on the listing, further inquiries should be made by the applicant regarding the submission of the relevant SPOC. The SPOC's comment(s) should be forwarded to the Office of Grants Management for Family Planning Services, 1301 Young Street, Suite 766, Dallas, Texas 75202. To be considered, such comments should be received by the Office of Grants Management for Family Planning Services by June 10, 2002.

Notification of Grant Award

When final funding decisions have been made, each applicant will be notified by letter of the outcome. The official document notifying an applicant that a project applicant has been approved for funding is the Notice of Grant Award, which specifies to the grantee the amount of money awarded, the purposes of the grant, and terms and conditions of the grant award.

Dated: April 22, 2002.
Mireille B. Kanda,
Acting Director, Office of Population Affairs.

[FR Doc. 02-10327 Filed 4-25-02; 8:45 am]

BILLING CODE 4510-34-P